DEPARTMENT OF THE TREASURY

Office of Foreign Assets Control

Sanctions Actions Pursuant to Executive Order 13582, 13382, and 13572

AGENCY: Office of Foreign Assets Control, Treasury.

ACTION: Notice.

SUMMARY: The U.S. Department of the Treasury's Office of Foreign Assets Control (OFAC) is publishing the names of 10 persons whose property and interests in property are blocked pursuant to Executive Orders (E.O.) 13582, 13382, and 13572.

DATES: OFAC's actions described in this notice were effective on May 16, 2017.

FOR FURTHER INFORMATION CONTACT: The Department of the Treasury's Office of Foreign Assets Control: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's Web site (www.treasury.gov/ofac).

Notice of OFAC Actions

On May 16, 2017, OFAC blocked the property and interests in property of two persons pursuant to E.O. 13582, “Blocking Property of the Government of Syria and Prohibiting Certain Transactions with Respect to Syria”.

Individual

1. MAKHLUF, Iyad (a.k.a. MAKHLOUF, Eyad; a.k.a. MAKHLOUF, Iyad), Damascus, Syria; DOB 21 Jan 1973; Gender Male; Passport N001820740 (individual) [SYRIA].

Entity

2. CHAM ISLAMIC BANK (a.k.a. AL-CHAM ISLAMIC BANK; a.k.a. CHAM BANK), Al-Najmeh Square, Damascus, Syria; All offices worldwide [SYRIA].

In addition, OFAC also blocked the property and interests in property of the following two persons pursuant to E.O. 13382, “Blocking Property of Weapons of Mass Destruction Proliferators and Their Supporters”.

Individual

1. QUWAYDIR, Muhammed Bin-Muhammed Faris (a.k.a. KWEIDER, Muhammad; a.k.a. KWEITER, Muhammad; a.k.a. QASSAR, Samir; a.k.a. QUAYDIR, Muhammad), Damascus, Syria; DOB 21 Jul 1967; Gender Male; Passport 004123298; Scientific Studies and Research Center Contracts Director (individual) [NPWMD] (Linked To: SCIENTIFIC STUDIES AND RESEARCH CENTER).

Entity

2. SYRIAN COMPANY FOR INFORMATION TECHNOLOGY (a.k.a. “SCIT”), P.O. Box 11037, Damascus, Syria [NPWMD] (Linked To: ORGANIZATION FOR TECHNOLOGICAL INDUSTRIES).

In addition, OFAC also blocked the property and interests in property of the following six persons pursuant to E.O. 13572, “Blocking Property of Certain Persons With Respect to Human Rights Abuses in Syria”.

Individuals

1. ABBAS, Muhammad (a.k.a. ABBAS, Mohammad Hasan; a.k.a. ABBAS, Mohammad Hassan), Damascus, Syria; DOB 01 Sep 1964; POB Al Ladhiqiyah, Syria; Gender Male (individual) [SYRIA] (Linked To: MAKHLUF, Rami).

2. MAKHLUF, Ihab (a.k.a. MAKHLOUF, Ehab; a.k.a. MAKHLOUF, Iehab; a.k.a. MAKHLOUF, Ihab), Damascus, Syria; DOB 21 Jan 1973; Gender Male; Passport N002848852 (individual) [SYRIA] (Linked To: MAKHLUF, Rami).

3. DARWISH, Samir Sakhir, Mezzah, Damascus, Syria; DOB 1971; alt. DOB 1970; alt. DOB 1972; Head of Al-Bustan Charity (individual) [SYRIA] (Linked To: AL-BUSTAN CHARITY).

Entities

4. AL-BUSTAN CHARITY (a.k.a. AL JAMAIYAH AL BUSTAN; a.k.a. AL-BUSTAN ASSOCIATION; a.k.a. AL-BUSTAN CHARITY ASSOCIATION; a.k.a. AL-BUSTAN CHARITY FOUNDATION; a.k.a. AL-BUSTAN CHARITY SOCIETY; a.k.a. AL-BUSTAN ORGANIZATION; a.k.a. JAMIAT AL-BUSTAN AL-KHAYRIYAH CHARITY), Mazza, Damascus, Syria [SYRIA] (Linked To: MAKHLUF, Rami).

5. AL-AJNIHAH (a.k.a. AJJNEHA; a.k.a. AL-AGNEHA COMPANY; a.k.a. AL-AJNIHAH PRIVATE JOINT STOCK CORPORATION), Damascus, Syria [SYRIA] (Linked To: ABBAS, Muhammad).

6. BARLY OFF-SHORE (a.k.a. BARLY OFF-SHORE S.A.L.), Lebanon [SYRIA] (Linked To: ABBAS, Muhammad).

Dated: May 16, 2017.
Andrea M. Gacki,
Acting Director, Office of Foreign Assets Control.

[FR Doc. 2017-10475 Filed 5-22-17; 8:45 am]

BILLING CODE 4810-AL-P